NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on February 1-3, 2007, 11545 Rockville Pike, Rockville, Maryland. The date of this meeting was previously published in the Federal Register on Wednesday, November 15, 2006 (71 FR 66561).

Thursday, February 1, 2007, Conference Room T-2B3, Two White Flint North, Rockville, Maryland

8:30 A.M.-8:35 A.M.: Opening Remarks by the ACRS Chairman (Open)—The ACRS Chairman will make opening remarks regarding the conduct of the meeting.

8:35 A.M.-11:15 A.M.: Final Review of the Power Uprate Application for the Browns Ferry Nuclear Plant, Unit 1 (Open/Closed)—The Committee will hear presentations by and hold discussions with representatives of the NRC staff and Tennessee Valley Authority (TVA) regarding the 5% power uprate application for Browns Ferry Nuclear Plant, Unit 1 and the associated NRC staff's final Safety Evaluation.

[Note: A portion of this session will be closed to protect information that is proprietary to General Electric, TVA, and their contractors pursuant to 5 U.S.C. 552b(c)(4).]

12:45 P.M.-3:30 P.M.: Final Review of the License Renewal Application for the Oyster Creek Generating Station (Open)—The Committee will hear presentations by and hold discussions with representatives of the NRC staff and AmerGen Energy Company, LLC. regarding the license renewal application for the Oyster Creek Generating Station and the associated NRC staff's final Safety Evaluation Report.

3:45 P.M.-5:15 P.M.: Development of TRACE Thermal-Hydraulic Code (Open)—The Committee will hear presentations by and hold discussions with representatives of the NRC staff regarding the progress made by the staff in developing the TRACE thermal-hydraulic system analysis code and related matters.

5:30 P.M.-7 P.M.: Preparation of ACRS Reports (Open)—The Committee will discuss proposed ACRS reports on matters considered during this meeting.

Friday, February 2, 2007, Conference Room T-2B3, Two White Flint North, Rockville, Maryland

8:30 A.M.-8:35 A.M.: Opening Remarks by the ACRS Chairman (Open)—The ACRS Chairman will make opening remarks regarding the conduct of the meeting.

8:35 A.M.-10 A.M.: Proposed Revision to 10 CFR 50.46 LOCA Criteria for Fuel Cladding Materials (Open)—The Committee will hear presentations by and hold discussions with representatives of the NRC staff regarding proposed revision to 10 CFR 50.46 loss-of-coolant accident (LOCA) criteria for fuel cladding materials.

10:15 A.M.-11:15 A.M.: Draft Final Revision 1 to Regulatory Guide 1.189 (DG-1170), “Fire Protection for Nuclear Power Plants,” and SRP Section 9.5.1, “Fire Protection Program” (Open)—The Committee will hear presentations by and hold discussions with representatives of the NRC staff regarding draft final revision 1 to Regulatory Guide 1.189 (DG-1170) and Standard Review Plan (SRP) Section 9.5.1, as well as resolution of public comments.

11:15 A.M.-11:30 A.M.: Subcommittee Report (Open)—Report by and discussions with the Chairman of the ACRS Subcommittee on Reliability and Probabilistic Risk Assessment (PRA) regarding the Economic Simplified Boiling Water Reactor (ESBWR) PRA that was discussed during a meeting on December 14, 2006.

1 P.M.-2 P.M.: Wolf Creek Pressurizer Weld Flaws (Open)—The Committee will hear presentations by and hold discussions with representatives of the NRC staff regarding the Wolf Creek Pressurizer Weld Flaws, including description, current status, and future actions.

2 P.M.-2:30 P.M.: Proposed Revisions to Regulatory Guides and SRP Sections in Support of New Reactor Licensing (Open)—The Committee will consider proposed revisions to Regulatory Guides and SRP Sections that are being made in support of new reactor licensing.

2:45 P.M.-3:30 P.M.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

3:30 P.M.-3:45 P.M.: Reconciliation of ACRS Comments and Recommendations (Open)—The Committee will discuss the responses from the NRC Executive Director for Operations to comments and recommendations included in recent ACRS reports and letters.

4 P.M.-7 P.M.: Preparation of ACRS Reports (Open)—The Committee will discuss proposed ACRS reports.

Saturday, February 3, 2007, Conference Room T-2B3, Two White Flint North, Rockville, Maryland

8:30 A.M.-12:30 P.M.: Preparation of ACRS Reports (Open)—The Committee will continue discussion of proposed ACRS reports.

12:30 P.M.-1 P.M.: Miscellaneous (Open)—The Committee will discuss matters related to the conduct of Committee activities and matters and specific issues that were not completed during previous meetings, as time and availability of information permit.

Procedures for the conduct of and participation in ACRS meetings were published in the Federal Register on October 2, 2006 (71 FR 58015). In accordance with those procedures, oral or written views may be presented by members of the public, including representatives of the nuclear industry. Electronic recordings will be permitted only during the open portions of the meeting. Persons desiring to make oral statements should notify the cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the cognizant ACRS staff prior to the meeting. In view of the possibility that the schedule for ACRS meetings may be adjusted by the Chairman as necessary to facilitate the conduct of the meeting, persons planning to attend should check with the cognizant ACRS staff if such rescheduling would result in major inconvenience.

In accordance with Subsection 10(d) of the Government in the Sunshine Act, I have determined that it will be necessary to close a portion of this meeting noted above to discuss information that is proprietary to General Electric, the Tennessee Valley Authority, and their contractors pursuant to 5 U.S.C. 552b(c)(4).

Further information regarding topics to be discussed, whether the meeting has been canceled or rescheduled, as well as the Chairman's ruling on requests for the opportunity to present oral statements and the time allotted therefor can be obtained by contacting Mr. Sam Duraiswamy, cognizant ACRS staff (301-415-7364), between 7:30 a.m. and 4 p.m., (ET).

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS meeting schedules/agendas).

Videoteleconferencing service is available for observing open sessions of ACRS meetings. Those wishing to use this service for observing ACRS meetings should contact Mr. Theron Brown, ACRS Audio Visual Technician (301-415-8066), between 7:30 a.m. and 3:45 p.m., (ET), at least 10 days before the meeting to ensure the availability of this service. Individuals or organizations requesting this service will be responsible for telephone line charges and for providing the equipment and facilities that they use to establish the videoteleconferencing link. The availability of video-teleconferencing services is not guaranteed.

Dated: December 22, 2006.
Andrew L. Bates,
Advisory Committee Management Officer.

[FR Doc. E6-22383 Filed 12-28-06; 8:45 am]

BILLING CODE 7590-01-P